FEDERAL COMMUNICATIONS COMMISSION

47 CFR Parts 1, 20, and 43

[WC Docket No. 04-141; FCC 04-266]

Local Telephone Competition and Broadband Reporting

AGENCY: Federal Communications Commission.

ACTION: Final rule; announcement of effective date.

SUMMARY: On May 26, 2005, the Federal Communications Commission received Office of Management and Budget (OMB) approval for the revised information collection, Local Telephone Competition and Broadband Reporting, WC Docket 04-141, OMB Control No. 3060-0816. The Commission previously stated in the Data Collection Order that the revised information collection requirements had not been approved by OMB, and that it would publish a document announcing the effective date, 69 FR 77912, December 29, 2004. By this document, we announce that OMB Control No. 3060-0816 and the amended rules 47 CFR 1.7001(b), 20.15(b)(1), and 43.11(a) implementing it were effective on May 26, 2005.

DATES: The amendments to 47 CFR 1.7001(b), 20.15(b)(1), and 43.11(a), published at 69 FR 77938, December 29, 2004, became effective on May 26, 2005.

FOR FURTHER INFORMATION CONTACT: Ellen Burton, Assistant Chief, James Eisner, Senior Economist, or Darryl Cooper, Attorney-Advisor, Industry Analysis and Technology Division, Wireline Competition Bureau, at (202) 418-0940.

SUPPLEMENTARY INFORMATION: In its Data Collection Order, the Commission revised the information collection requirements for FCC Form 477 (69 FR 77912, December 29, 2004). The revisions extend and modify the FCC Form 477 local competition and broadband data gathering program, established by the Commission's Data Gathering Order (65 FR 19675, April 12, 2000). In the Data Collection Order, the Commission stated that the revised information collection requirements had not been approved by OMB. It indicated that the amended rules implementing the revised information collection would become effective only upon OMB approval of the revised information collection. It stated that it would publish a document in the Federal Register announcing the effective date.

OMB approved the revised information collection on May 26, 2005. Accordingly, through this document, the Commission announces that May 26, 2005, will function as the effective date of both the revised information collection and the amended rules implementing it. This means that the revised information collection and the amended rules will apply to the Form 477 that entities must file on or before September 1, 2005, reporting data as of June 30, 2005.

Pursuant to the Paperwork Reduction Act of 1995, Public Law 104-13, an agency may not conduct or sponsor a collection of information unless it displays a currently valid control number. Notwithstanding any other provisions of law, no person shall be subject to any penalty for failing to comply with a collection of information subject to the Paperwork Reduction Act that does not display a valid control number. Questions concerning OMB control numbers and expiration dates should be addressed to Paul J. Laurenzano, Wireline Competition Bureau, at (202) 418-1359 or via the Internet at Paul.Laurenzano@fcc.gov.

Federal Communications Commission.
Marlene H. Dortch,
Secretary.

[FR Doc. 05-13028 Filed 7-5-05; 8:45 am]

BILLING CODE 6712-01-P